Title 3—

The President

Proclamation 9904 of June 6, 2019

National Day of Remembrance of the 75th Anniversary of D-Day

By the President of the United States of America

A Proclamation

On June 6, 1944, D-Day, more than 130,000 American and Allied troops stormed the beaches of Normandy, France, and thousands more parachuted in behind enemy lines, on a mission to retake Europe from the control of Nazi Germany. The night before the operation, the largest amphibious assault in the history of war, General Dwight D. Eisenhower issued a message to the Allied Expeditionary Force: “The eyes of the world are upon you. The hopes and prayers of liberty-loving people everywhere march with you . . . We will accept nothing less than full victory.” Seventy-five years later, these words remind us of the magnitude of the day and of the heroism of the thousands who waded onto the beaches, parachuted into the countryside, and gave their all to change the course of history and to bring liberty to millions.

On that fateful June morning, before dawn, paratroopers from the Army's 82nd and 101st Airborne Divisions, among others, fell in behind enemy lines. Shortly thereafter, the first wave of American, British, and Canadian infantry divisions, which had crossed the English Channel in 7,000 vessels and landing craft, rushed forth onto the five beaches of the targeted 50-mile stretch of the French coastline, codenamed Utah, Omaha, Gold, Juno, and Sword.

Awaiting these brave men was a shoreline littered with anti-landing obstacles, landmines, bunkers, and strategically positioned machine-gun nests. These defenses inflicted devastating losses on the Allied forces. 1,465 Americans perished on the beaches of Normandy that day. On Omaha Beach—the bloodiest of the five—the U.S. Army's 1st and 29th Infantry Divisions suffered horrific losses: 2,400 soldiers were killed or wounded by day's end.

Secure in the nobility of their cause and driven by love of country, the heroes of D-Day pressed forward against the German onslaught. Through their gallantry and dedication to duty, they overwhelmed the enemy and secured a beachhead that allowed wave after wave of infantry to push onto the continent. By day's end, the D-Day forces had pried open Europe's northern door—so tightly sealed by the Nazis for years. Through that door streamed the forces of liberation, which ultimately ended the war, ended the horrors of the Holocaust, ended the tyrannical Hitler regime, and laid the foundations of a peace that persists to this day.

Today, we pause to remember and honor all of the brave soldiers, sailors, and airmen whose selfless sacrifices catalyzed the deliverance of oppressed people and secured freedom for decades to come. May we always be true to the virtues and principles for which this D-Day generation—the Greatest Generation—paid so dearly. As we mark 75 years since the D-Day landings, we recognize that their legacy grows ever more meaningful with time. The story of America will forever include the valor and sacrifice of the intrepid servicemen who took those beaches in northwest France on June 6, 1944.

NOW, THEREFORE, I, DONALD J. TRUMP, President of the United States of America, by virtue of the authority vested in me by the Constitution and the laws of the United States, do hereby proclaim June 6, 2019, as a National Day of Remembrance of the 75th Anniversary of D-Day. I call upon all Americans to observe this day with programs, ceremonies, and activities that honor those who fought and died so that men and women they had never met might know what it is to be free.

IN WITNESS WHEREOF, I have hereunto set my hand this sixth day of June, in the year of our Lord two thousand nineteen, and of the Independence of the United States of America the two hundred and forty-third.

[FR Doc. 2019-12552

Filed 6-11-19; 11:15 am]

Billing code 3295-F9-P